DEPARTMENT OF ENERGY

Federal Energy Regulatory Commission

[Docket No. RM08-2-000]

Pipeline Posting Requirements Under Section 23 of the Natural Gas Act; Notice of New Date for Technical Conference

February 12, 2008.

On January 10, 2008, the Commission issued a Notice of Technical Conference which was scheduled for February 28, 2008. Subsequently, on February 7, 2008, the Commission issued a notice of an extension of time (February 7 Notice) for filing comments in response to the Commission's Notice of Proposed Rulemaking issued December 21, 2007, in the above-referenced proceeding (NOPR).¹ In the February 7 Notice, the Commission also stated that the technical conference previously scheduled for February 28, 2008, would be rescheduled.

¹ Pipeline Posting Requirements under Section 23 of the Natural Gas Act, 73 Fed. Reg. 1116 (Jan. 7, 2008), FERC Stat. & Regs. ¶ 32,626 (2007).

The staff technical conference in the above-referenced proceeding is rescheduled to take place on April 3, 2008, at the Federal Energy Regulatory Commission, 888 First Street, NE., Washington, DC 20426, in the Commission Meeting Room (2-C) from 9:30 a.m. until 3 p.m. (EST). As set forth in the NOPR, the staff is holding this conference to address implementation issues associated with the posting proposal, such as obtaining and posting actual and scheduled flow information and obtaining and posting information from storage facilities.

As stated in the February 7, 2008 Notice, comments on the NOPR should be filed on or before March 13, 2008 and reply comments should be filed on or before April 14, 2008.

Anyone with questions about the conference or interested in speaking at the conference may send brief descriptions of the issues they would like to address to Saida Shaalan at Saida.Shaalan@FERC.gov, or phone Ms. Shaalan at 202-502-8278, before March 22, 2008. Thereafter, both questions and requests to speak should be sent to Eric Ciccoretti at Eric.Ciccoretti@FERC.gov, or 202-502-8493.

This conference will not be Web-cast nor transcribed. All interested persons are invited, and there is no registration fee to attend.

Commission conferences are accessible under section 508 of the Rehabilitation Act of 1973. For accessibility accommodations please send an e-mail to accessibility@ferc.gov or call toll free 1-866-208-3372 (voice) or 202-208-1659 (TTY), or send a FAX to 202-208-2106 with the required accommodations.

Kimberly D. Bose,
Secretary.

[FR Doc. E8-3043 Filed 2-19-08; 8:45 am]

BILLING CODE 6717-01-P